ENVIRONMENTAL PROTECTION AGENCY

[EPA-R05-OAR-2008-0398; FRL-9145-9]

Adequacy Status of the Indianapolis, Indiana Submitted Annual Fine Particulate Matter Attainment Demonstration for Transportation Conformity Purposes

AGENCY: Environmental Protection Agency (EPA).

ACTION: Notice of adequacy.

SUMMARY: In this notice, EPA is notifying the public that we have found that the motor vehicle emissions budgets (MVEBs) for fine particulate matter (PM2.5) and oxides of nitrogen (NOx) as a precursor to PM2.5 in the Indianapolis, Indiana area are adequate for use in transportation conformity determinations. Indiana submitted the Indianapolis area budgets with the final PM2.5 attainment demonstration submittal on June 5, 2008. As a result of our finding, the Indianapolis, Indiana area must use the MVEBs from the submitted PM2.5 attainment demonstration plan for future transportation conformity determinations.

DATES: This finding is effective May 21, 2010.

FOR FURTHER INFORMATION CONTACT: Patricia Morris, Environmental Scientist, Criteria Pollutant Section (AR-18J), Air Programs Branch, Air and Radiation Division, United States Environmental Protection Agency, Region 5, 77 West Jackson Boulevard, Chicago, Illinois 60604, (312) 353-8656, morris.patricia@epa.gov.

SUPPLEMENTARY INFORMATION: Throughout this document, whenever “we”, “us” or “our” is used, we mean EPA.

Background

Today's notice is simply an announcement of a finding that we have already made. On April 12, 2010, EPA Region 5 sent a letter to the Indiana Department of Environmental Management stating that the 2002 and 2009 MVEBs for the Indianapolis, Indiana area, which were submitted with the state's PM2.5 attainment demonstration, are adequate. Receipt of these MVEBs was announced on EPA's transportation conformity website with a 30 day public comment period, and no comments were submitted. The finding is available at EPA's conformity Web site: http://www.epa.gov/otaq/stateresources/transconf/adequacy.htm.

The adequate 2002 and 2009 MVEBs, in tons per year (tpy), for PM2.5 and NOX for the Indianapolis, Indiana area are as follows:

Indianapolis, Indiana
| PM2.5 (tpy) | NOX (tpy)
2002 | 842.37 | 47,815.51
2009 | 518.43 | 28,537.23

Transportation conformity is required by section 176(c) of the Clean Air Act. EPA's conformity rule requires that transportation plans, programs, and projects conform to state air quality implementation plans and establishes the criteria and procedures for determining whether or not they do conform. Conformity to a State Implementation Plan (SIP) means that transportation activities will not produce new air quality violations, worsen existing violations, or delay timely attainment of the national ambient air quality standards.

The criteria by which we determine whether a SIP's motor vehicle emission budgets are adequate for transportation conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

The finding and the response to comments are available at EPA's transportation conformity Web site: http://www.epa.gov/otaq/stateresources/transconf/adequacy.htm.

Authority: 42 U.S.C. 7401-7671 q.

Dated: April 26, 2010.
Margaret Guerriero,
Acting Regional Administrator, Region 5.

[FR Doc. 2010-10693 Filed 5-5-10; 8:45 am]

BILLING CODE 6560-50-P